DEPARTMENT OF HEALTH AND HUMAN SERVICES

Administration for Community Living

Technical Assistance: Senior Legal Helplines and Model Approaches to Statewide Legal Assistance Systems

SUMMARY: The Administration for Community Living (ACL) is announcing the application deadline and a single case deviation from maximum competition for Technical Assistance (TA) grants providing support to Senior Legal Helplines (SLH) and Model Approaches to Statewide Legal Assistance Systems (Model Approaches) projects under Section 420(a)(2) of the Older Americans Act (OAA). The two (2) TA grants provide focused resource support specifically to SLHs and Model Approaches demonstration projects involved in improving the quality, cost effectiveness, and accessibility of legal assistance and elder rights protections provided to older people. The purpose of this deviation is to award a 4th year non-competing continuation to TA grants, with a three (3) year budget period set to expire May 31, 2014, so that: (1) Stakeholder input can be obtained on the resource support needs of legal and aging/disability service providers across the country; and (2) the current focus of the TA grants can be better directed to support and advance ACL activities anticipated in FY15 in the area of elder rights and elder abuse prevention.

Program Name: National Legal Assistance and Support—National Legal Resource Center.

Award Amount: $214,636 ($143,000/$71,636 per grantee).

Project Period: 6/1/2011 to 5/31/2015.

Award Type: Cooperative Agreement.

Statutory Authority: Title IV of OAA (42 U.S.C. 3032), as amended by the OAA Amendments of 2006, Pub. L. 109-365.

Catalog of Federal Domestic Assistance (CFDA) Number: 93.048 Discretionary Projects

DATES:

• Application Submission deadline: May 5, 2014.

• The anticipated budget period start date is June 1, 2014.

I. Program Description

Technical Assistance (TA) grants directed towards legal systems development efforts provide tailored resource support to Senior Legal Helplines (SLH) and Model Approaches to Statewide Legal Assistance Systems (Model Approaches) projects across the country. Model Approaches grants promote the creation of legal services delivery systems that incorporate SLHs (and other low-cost service delivery mechanisms) into the broader tapestry of Title III-B legal services, and other available legal resources. Specifically, the TA grant directed to SLHs provides resource support for various aspects of helpline legal service delivery, including the development of reporting/data collection systems, case management systems, targeting and outreach strategies, and integration strategies that incorporate SLHs into the broader tapestry of legal service delivery in each Model Approaches state. The TA grant directed to the systems enhancement objectives of Model Approaches Phase I and Phase II projects provides resource support on the development of needs and capacity assessments, reporting/data collection systems and outcomes measures used to determine the impact of legal services, and the development of legal service delivery standards/guidelines that promote quality and consistent statewide legal service delivery.

II. Justification for The Exception to Competition

As with the grants comprising the National Legal Resource Center, it is important to assess the effectiveness of TA grants in helping states meet increasing challenges in the development and maintenance of “high capacity” statewide legal service delivery systems. To this end, ACL would like to accomplish two goals this year: (1) Obtain stakeholder input on the resource support needs of legal and aging/disability service providers across the country and the ability to meet those needs through focused TA grants; and (2) establish how best to direct the current objectives of the TA grants towards advancing anticipated ACL FY 15 activities related to elder rights and elder abuse prevention.

III. Eligible Applicants

Incumbent TA grantees with award expiration dates of 5/31/14.

IV. Evaluation Criteria

Information previously provided in semi-annual reports, as well as information in the non-competing extension application will be considered to determine satisfactory progress of the grantee project and ensure that proposed activities are within the approved scope and budget of the grant. Areas that will be evaluated include:

A. Project Relevance & Current Need

B. Approach

C. Budget

D. Project Impact

E. Organizational Capacity

V. Application and Submission Requirements

A. SF 424—Application for Federal Assistance

B. SF 424A—Budget Information

C. Separate Budget Narrative/Justification

D. SF 424B—Assurances. Note: Be sure to complete this form according to instructions and have it signed and dated by the authorized representative (see item 18d of the SF 424).

E. Lobbying Certification

F. Program narrative—no more than 10 pages.

G. Work Plan

H. Incumbent grantees will be required to access the non-competing application kit in GrantSolutions.gov to submit all materials for this application.

VI. Application Review Information

Applications will be objectively reviewed by Federal staff utilizing the criteria listed above in Section III.

VII. Agency Contact

For further information or comments regarding this program expansion supplement, contact Omar Valverde, U.S. Department of Health and Human Services, Administration for Community Living, Administration on Aging, Office of Elder Rights, One Massachusetts Avenue NW., Washington, DC 20001; telephone (202) 357-3515; fax (202) 357-3549; email omar.valverde@acl.hhs.gov.

Dated: March 27, 2014.
Kathy Greenlee,
Administrator and Assistant Secretary for Aging.

[FR Doc. 2014-07340 Filed 4-1-14; 8:45 am]

BILLING CODE 4154-01-P